DEPARTMENT OF THE INTERIOR

National Park Service

[7148-NZY]

Plan of Operations, Environmental Assessment, Big Thicket National Preserve, Texas

AGENCY: National Park Service, Department of the Interior.

ACTION: Notice of Availability of a Plan of Operations and Environmental Assessment for a 30-day public review.

SUMMARY: Notice is hereby given in accordance with Section 9.52(b) of Title 36 of the Code of Federal Regulations, Part 9, Subpart B, that the National Park Service (NPS) has received from Cimarex Energy Company (Cimarex), a Plan of Operations to conduct the Rivers Edge 3-D Seismic Survey within the Beaumont, Little Pine Island—Pine Island Bayou Corridor, Lower Neches River Corridor, and Village Creek Corridor Units of Big Thicket National Preserve (Preserve), in Hardin, Jasper, Jefferson, and Orange Counties, Texas. The NPS has prepared an Environmental Assessment of this proposal. The Environmental Assessment evaluates two alternatives: A No Action alternative under which there would be no new impacts, and the NPS preferred alternative under which Cimarex would conduct a 3-D seismic survey within the Preserve using a combination of helicopter-portable and tracked drilling equipment.

DATES: The above documents are available for public review and comment through May 29, 2012.

ADDRESSES: The Plan of Operations and Environmental Assessment are available for public review and comment at http://parkplanning.nps.gov and in the Office of the Superintendent, Douglas Neighbor, Big Thicket National Preserve, 6044 FM 420, Kountze, Texas 77625. Copies of the Plan of Operations and Environmental Assessment are available upon request from the contact listed below.

FOR FURTHER INFORMATION CONTACT: Ms. Stephanie Burgess, Oil and Gas Program Manager, Big Thicket National Preserve, 6044 FM 420, Kountze, Texas 77625, Telephone: 409 951-6822, email at Stephanie_M_Burgess@nps.gov.

SUPPLEMENTARY INFORMATION: If you wish to comment on the Plan of Operations and Environmental Assessment, you may mail comments to the name and address above or post comments online at http://parkplanning.nps.gov/. The documents will be on public review for 30 days. Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: April 18, 2012.
Douglas Neighbor,
Superintendent, Big Thicket National Preserve, National Park Service.

[FR Doc. 2012-10137 Filed 4-25-12; 8:45 am]

BILLING CODE P